DEPARTMENT OF JUSTICE

Notice of Lodging of Consent Decree Pursuant to Oil Pollution Act

Notice is hereby given that on October 6, 2005, a proposed consent decree in United States v. General Electric Company, Civil Action No. 05-cv-1270, was lodged with the United States District Court for the Northern District of New York.

The proposed consent decree will settle the United States' claims under the Comprehensive Response, Compensation and Liability Act, 42 U.S.C. 9601, et seq., relating to the release of polychlorinated biphenyls into the Hudson River. Pursuant to the proposed consent decree, General Electric Company will, inter alia, dredge approximately 265,000 cubic yards of contaminated sediment from certain portions of the Upper Hudson River and pay approximately $43,000,000 toward past and future costs of the United States in responding to the contamination. In addition, General Electric Company may dredge an additional 2.39 million cubic yards of contaminated sediments under the Consent Decree and pay up to an additional $32.5 million to reimburse costs of the United States.

The Department of Justice will receive for a period of thirty (30) days from the date of this publication comments relating to the proposed consent decree. Comments should be addressed to the Assistant Attorney General of the Environment and Natural Resources Division, Department of Justice, Washington, DC 20530, and should refer to United States v. General Electric Company, Civil Action No. 05-cv-1270, D.J. Ref. 90-11-2-529.

The proposed consent decree may be examined at the Office of the United States Attorney, Northern District of New York, 445 Broadway, Albany, New York 12207-2924. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree only, please so note and enclose a check in the amount of $19.75 (25 cents per page reproduction cost for the 79 page proposed consent decree) payable to the U.S. Treasury. If you would also like a copy of the attachments to the consent decree, please so note and include an additional $607.75 (25 cents per page for the 2431 pages of attachments). The consent decree, and attachments, will also be available on the DOJ Web site during the public comment period at http://www.doj.gov/enrd/open/html.

Ronald Gluck,
Assistant Chief, Environmental Enforcement Section, Environment and Natural Resources Division.

[FR Doc. 05-20533 Filed 10-12-05; 8:45 am]

BILLING CODE 4410-15-M